DEPARTMENT OF JUSTICE

[OMB Number 1103-NEW]

Agency Information Collection Activities; Proposed eCollection eComments Requested; Approval of a New Collection; Perceptions of Safety and Police-Community Relations

AGENCY: Community Oriented Policing Services (COPS) Office, Department of Justice.

ACTION: 30-day notice.

SUMMARY: The Department of Justice (DOJ), Community Oriented Policing Services (COPS) Office, will be submitting the following information collection request to the Office of Management and Budget (OMB) for review and approval in accordance with the Paperwork Reduction Act of 1995. This proposed information collection was previously published in the Federal Register at 80 FR 9750, February 24, 2015, allowing for a 60-day comment period.

DATES: Comments are encouraged and will be accepted for an additional 30 days until June 4, 2015.

FOR FURTHER INFORMATION CONTACT: If you have additional comments especially on the estimated public burden or associated response time, suggestions, or need a copy of the proposed information collection instrument with instructions or additional information, please contact Kimberly J. Brummett, Program Specialist, Department of Justice, Community Oriented Policing Services (COPS) Office, 145 N Street NE., Washington, DC 20530 (202-353-9769). Written comments and/or suggestions can also be directed to the Office of Management and Budget, Office of Information and Regulatory Affairs, Attention Department of Justice Desk Officer, Washington, DC 20530 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Overview of This Information Collection

1. Type of Information Collection: New Collection; Perceptions of Safety and Police-Community Relations.

2. The Title of the Form/Collection: Survey of Resident Perceptions of Safety and Policing & Survey of Officer Perceptions of Policing and Department/Organization.

3. The agency form number: None.

4. Affected public who will be asked or required to respond, as well as a brief abstract:

The affected public who will be asked to respond to the surveys include:

• Community residents of the CRI-TA site over the age of 18;

• Sworn and non-sworn police officers; and

The information collected through the two respective surveys is to establish a baseline to measure the impact of technical assistance given to Collaborative Reform Initiative (CRI) sites to advance community police and improve community confidence in the police. The four technical assistance providers (The Police Foundation, the Center for Naval Analyses (CNA), Institute of Intergovernmental Research (IIR), and Hillard Heintze) or one or more survey administration organizations will utilize each of the two surveys at one point in time for two different populations. The surveys will be administered prior to the application of technical assistance (or shortly thereafter) to establish a baseline of public and police perception of safety, community policing, and police-community relations. The data collected will cover one point in time in 2015 to establish this baseline. The survey results will not be used to draw conclusions that can be applied to the entire nation, but rather only for sites COPS chooses to provide technical assistance, so a nationally representative sample is not recommended. However, the surveys can be used in any municipality or region in the United States. To enhance site sustainability, the surveys will serve as tools for CRI sites (and future COPS community policing sites) to monitor their own change efforts and progress over time. Sites will be encouraged to administer the same survey tools at varying time intervals in order to compare pre- and post-technical assistance perceptions. The sites can infer the impact of technical assistance as well as their own capacity to sustain change. The community resident survey should over-represent those who have or likely have had contact with the police in that locality, determined by arrest rates by zip code or neighborhood delineation, race, and ethnicity. The police survey will be disseminated to all sworn and non-sworn officers. The detainee survey shall be comprised of a convenience sample of those who have had recent contact with the police in that locality.

5. An estimate of the total number of respondents and the amount of time estimated for an average respondent to respond: An estimated one to five percent of members of each community will take part in the Survey of Resident Perceptions of Safety and Policing. The COPS Office estimates 50 sites over the approval period of this collection. Based on previous use of the survey at the Program in Criminal Justice Policy and Management at the John F. Kennedy School of Government at Harvard University (PCJ), the estimated range of completion for respondents is expected to be between 10 minutes to 15 minutes for completion. An estimated 15% of police officers of each agency will take part in the Survey of Officer Perceptions of Policing and Department/Organization. The COPS Office estimates 50 sites over the approval period of this collection. Based on previous use of the survey by the PCJ, the estimated range of completion for respondents is expected to be between 15 minutes and 20 minutes. Of the detainees offered the opportunity to participate, an estimated 20-25% of detainees will agree to participate in the Survey of Detainee Perceptions of Policing. Based on previous use of the survey the PCJ, the estimated range of completion for detainee respondents is expected to be between five minutes and 10 minutes.

6. An estimate of the total public burden (in hours) associated with the collection: Surveys will be disseminated to respective CRI sites pre-technical assistance to gather baseline data. For the approval timeframe of this collection, the COPS Office estimates that it will administer the survey to 50 community and agency sites: The COPS Office estimates that it will administer 400 community member and 100 officer surveys per site:

• 400 surveys × 50 sites (20,000 surveys) × 20 minutes = 6,667 hours.

• 100 surveys × 50 sites (5,000 surveys) × 20 minutes = 1,667 hours.

The total estimated burden associated with this collection is 8,334 hours.

If additional information is required contact: Jerri Murray, Department Clearance Officer, United States Department of Justice, Justice Management Division, Policy and Planning Staff, Two Constitution Square, 145 N Street NE., 3E.405B, Washington, DC 20530.

Dated: April 29, 2015.
Jerri Murray,
Department Clearance Officer for PRA, U.S. Department of Justice.

[FR Doc. 2015-10396 Filed 5-4-15; 8:45 am]

BILLING CODE 4410-AT-P